DEPARTMENT OF COMMERCE

Census Bureau

2004 Census Test Other Living Quarters Validation Questionnaire

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 7, 2003.

ADDRESSES: Direct all written comments to Diana Hynek, Departmental Paperwork Clearance Officer, Room 6625, 14th and Constitution Avenue, NW., Washington, DC 20230 (or via the Internet at dhynek@doc.gov).

FOR FURTHER INFORMATION CONTACT: Requests for additional information or copies of the information collection instrument and instructions should be directed to Sharon Schoch, U.S. Census Bureau, Building 2, Room 2102, Washington, DC 20233-9200, telephone number (301) 763-8272.

SUPPLEMENTARY INFORMATION:

I. Abstract

The Census Bureau must provide everyone in the United States the opportunity to be counted, including persons who do not live in conventional housing units. In Census 2000, the Census Bureau implemented a comprehensive set of procedures to enumerate persons who live or stay in group quarters (GQ) such as nursing homes, college dormitories, jails, and shelters. In order to count these persons, the Census Bureau developed a list of GQs—living quarters other than conventional housing units.

Prior to the Census 2000 enumeration of persons living in group quarters, the Census Bureau conducted the Special Place Facility Questionnaire operation to develop an inventory of special place/group quarters facilities. This operation was designed to identify, verify, classify, and obtain pertinent enumeration information about every special place (SP—See Definition of Terms) and all group quarters associated with it.

As part of ongoing Census 2010 planning, the Census Bureau has scheduled a test in 2004, which includes a new operation, Group Quarters Validation (GQV). The goal of this new operation is to improve the enumeration of the group quarters population in the next decennial census. In order to accomplish this goal, we are developing new procedures to verify and update the existing Census 2000 GQ inventory as corrected by the Count Question Resolution (CQR—See Definition of Terms) program. In addition, GQV will attempt to properly classify other places with housing units that may be difficult to classify or that require special procedures such as hotels/motels and assisted living facilities. There are two test sites for the 2004 Test Census GQV operation—Queens, NY, and three rural counties in Georgia (Colquitt, Tift, and Thomas). The universe of GQV cases or addresses will be developed differently for each site.

II. Method of Collection

The universe for the Queens, NY test site will include all addresses identified previously as Other Living Quarters (OLQ—See Definition of Terms) during an earlier 2004 Census Test Address Canvassing (AC—See Definition of Terms) operation. The AC field staff will update and verify Census 2000 addresses for the New York test site. Address Canvassing staff will be instructed to identify any address that does not meet the definition of a housing unit and has living quarters or has the potential of having living quarters, and to code that address as an OLQ. The OLQs will be merged with the existing Census 2000 GQ inventory for the test area to produce the final list of OLQ addresses for the GQV operation.

AC will not be conducted in the Georgia test site, therefore, the OLQs for this site will consist only of the existing Census 2000 inventory as corrected by the Count Question Resolution program.

GQV staff from local census offices (LCO—See Definition of Terms) will visit each identified OLQ to conduct an interview using the paper OLQV questionnaire. The staff member will ask a series of questions to determine if the address is a GQ, a housing unit, or not a living quarters, such as a commercial establishment. These questions include asking the respondent's name and job title, as well as showing the respondent a card containing a list of types of group quarters. If the respondent says that none of the types of group quarters listed describes the address, the interviewer will end the interview after determining that the address is a housing unit, a nonresidential address, or another type of GQ not on our list.

If the address is determined to be a GQ, the field staff will interview the respondent to verify, classify, and obtain other pertinent information about the GQ. The LCO staff will attempt to collect information such as the basic street address, contact name, telephone number, maximum capacity, and the special place name, address, and telephone number with which the GQ is affiliated. If there are additional GQs at this address, the LCO staff will add the newly identified GQs and attempt to collect the above information for each addition.

If the address is determined to be either a housing unit or a commercial establishment with no living quarters, then the LCO staff will attempt to complete the appropriate items in the OLQV questionnaire and end the interview.

The completed questionnaires will be sent to the Census Bureau National Processing Center in Jeffersonville, Indiana for data capture, and the information from the OLQV questionnaire will be processed for assessing the effectiveness of this operation.

Evaluation of Special Place/Group Quarters Frame Development Operations

Approximately eight weeks after the data collection portion of GQV has been completed, the Census Bureau will conduct a follow-up evaluation to assess the effectiveness of the GQV operation. Using the OLQV questionnaire, staff will re-interview respondents at a sample of approximately 275 GQs to validate the identification of GQs and the assignment of GQ type code.

Definition of Terms

Address Canvassing (AC)—A method of data collection designed to insure that the Master Address File is current and complete. Listers collect information from each address in their assignment areas to identify all OLQs. These OLQs and the OLQs from the CQR corrected inventory make up the GQV universe. AC also identifies housing units and not-in-universe entities such as commercial establishments.

Count Question Resolution (CQR)—A process whereby state, local, and tribal government officials could ask the Census Bureau to verify the accuracy of the legal boundaries used for Census 2000, the allocation of living quarters and their residents in relation to those boundaries, and the count of people recorded by the Census Bureau for specific living quarters.

Local Census Office (LCO)—A temporary office established for Census Bureau data collection purposes.

Other Living Quarters (OLQ)—Any address that does not meet the definition of a housing unit and has living quarters or has the potential of having living quarters.

Special Places (SP)—Establishments that are administratively responsible for one or more Group Quarters. In some cases, the Special Place and the Group Quarters are one and the same.

III. Data

OMB Number: Not available.

Form Number: DB-351(GQV).

Type of Review: Regular.

Affected Public: Individuals, businesses or other for-profit organizations, non-profit institutions and small businesses or organizations.

Estimated Number of Respondents: Approximately 550 for the GQV operation. Approximately 275 for the Evaluation of Special Place/Group Quarters Frame Development Operations.

Estimated Time Per Response: 15 minutes.

Estimated Total Annual Burden Hours: 138 hours for GQV. 69 hours for the Evaluation of Special Place/Group Quarters Frame Development Operations.

Estimated Total Annual Cost: There is no cost to respondents except for their time to respond.

Respondent Obligation: Mandatory.

Legal Authority: Title 13, United States Code, Sections 141 and 193.

IV. Request for Comments

Comments are invited on: (a)Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 1, 2003.
Madeleine Clayton,
Management Analyst, Office of the Chief Information Officer.

[FR Doc. 03-11238 Filed 5-6-03; 8:45 am]

BILLING CODE 3510-07-P